DEPARTMENT OF AGRICULTURE

Food Safety and Inspection Service

[Docket No. FSIS-2006-0003]

Codex Alimentarius Commission: 34th Session of the Codex Committee on Food Labelling

AGENCY: Office of the Under Secretary for Food Safety, USDA.

ACTION: Notice of Public meeting, request for comments.

SUMMARY: The Office of the Under Secretary for Food Safety, United States Department of Agriculture (USDA), and the Food And Drug Administration (FDA) are sponsoring a public meeting on April 7, 2006 to provide draft U.S. positions and receive public comments on agenda items that will be discussed at the 34th Session of the Codex Committee on Food Labelling (CCFL) of the Codex Alimentarius Commission (Codex), which will be held in Ottawa, Canada on May 1-5, 2006. The Under Secretary and FDA recognize the importance of providing interested parties the opportunity to comment on the agenda items that will be discussed at this forthcoming Session of the CCFL.

DATES: The public meeting is scheduled for Friday, April 7, 2006, from 9 a.m. to 12 noon.

ADDRESSES: The public meeting will be held in Room 1A-003, FDA Harvey W. Wiley Building, 5100 Paint Branch Parkway, College Park, MD. Documents related to the 34th Session of the CCFL will be accessible via the World Wide Web at the following address: http://www.codexalimentarius.net/current.asp.

FSIS invites interested persons to submit comments on this notice. Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the Federal Docket Management System Docket Number FSIS-2006-0003 to submit or view public comments and to view supporting and related materials available electronically.

• Mail, including floppy disks or CD-ROM's, and hand- or courier-delivered items to Docket Clerk, U.S. Department of Agriculture, Food Safety and Inspection Service, 300 12th Street, SW., Room 102 Cotton Annex Building, Washington, DC 20250.

• Electronic mail: fsis.regulationscomments@fsis.usda.gov. All submissions received must include the Agency name and docket number FSIS-2006-0003. All comments submitted in response to this notice, as well as research and background information used by FSIS in developing this document, will be posted to the regulations.gov Web site. The background information and comments also will be available for public inspection in the FSIS Docket Room at the address listed above between 8:30 a.m. and 4:30 p.m., Monday through Friday.

Participation by Conference Call: A call-in number has been arranged: 1-800-857-9091, participant code 60357.

For Further Information About the 34th Session of the CCFL Contact: U.S. Delegate, Dr. Barbara Schneeman, Director, Office of Nutritional Products, Labeling and Dietary Supplements, Center for Food Safety and Applied Nutrition, FDA, 5100 Paint Branch Parkway (HFS-004), College Park, MD 20740, Phone: (301) 436-2373, Fax: (301) 436-2636. E-mail: Barbara.schneeman@fda.hhs.gov.

For Further Information About the Public Meeting Contact: Ellen Matten, International Issues Analyst, U.S. Codex Office, Food Safety and Inspection Service, Room 4861, South Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and Environmental Protection Agency (EPA) manage and carry out U.S. Codex activities.

The Codex Committee on Food Labeling (CCFL) drafts provisions on labeling applicable to all foods; considers, amends, if necessary, and endorses specific provisions on labeling of draft standards, codes of practice, and guidelines prepared by other Codex committees; studies specific labeling problems assigned to it by the Commission; and studies problems associated with the advertisement of food with particular reference to claims and misleading descriptions. The Committee is chaired by Canada.

Issues To Be Discussed at the Public Meeting

The following items on the agenda for the 34th Session of the CCFL will be discussed during the public meeting:

• Matters referred to the Committee from other Codex bodies.

• Endorsement of labeling provisions of draft commodity standards.

• Guidelines for the Production, Processing, Labelling and Marketing of Organically Produced Foods: Draft Revised Annex 2, Tables 1 and 3, and consideration of the process for evaluating substances in Annex 2.

• Proposed Draft Guidelines for the Labelling of Foods Obtained Through Certain Techniques of Genetic Modification/Genetic Engineering: Labelling Provisions and Definitions.

• Proposed Draft Amendment to the General Standard for the Labelling of Prepackaged Foods (Quantitative Declaration of Ingredients).

• Proposed Draft Definition of Trans-Fatty Acids.

• Discussion Paper on Advertising.

Each issue listed will be fully described in documents distributed, or to be distributed, by the Canadian Secretariat to the Meeting. Members of the public may access or request copies of these documents (see ADDRESSES).

Public Meeting

At the April 7, 2006 public meeting, draft U.S. positions on these agenda items will be described, discussed, and attendees will have the opportunity to pose questions and offer comments. Written comments may be offered at the meeting or sent to the U.S. Delegate for the 34th Session of CCFL, Dr. Barbara Schneeman, (see ADDRESSES). Written comments should state that they relate to activities of the 34th Session of the CCFL.

Additional Information

Public awareness of all segments of rulemaking and policy development is important. Consequently, in an effort to ensure that the public and in particular minorities, women, and persons with disabilities, are aware of this notice, FSIS will announce it on-line through the FSIS web page located at http://www.fsis.usda.gov/regulations/2005_Notices_Index/index.asp.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS web page. Through Listserv and the web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices.

Customers can add or delete subscriptions themselves and have the option to password protect their account.

Done at Washington, DC, on February 23, 2006.
F. Edward Scarbrough,
U.S. Manager for Codex Alimentarius.

[FR Doc. E6-2830 Filed 2-28-06; 8:45 am]

BILLING CODE 3410-DM-P